DEPARTMENT OF ENERGY

Federal Energy Regulatory Commission

Combined Notice of Filings #1

Take notice that the Commission received the following electric rate filings:

Docket Numbers: ER18-1639-000.

Applicants: Constellation Mystic Power, LLC.

Description: Constellation Mystic Power, LLC submits September 2022 Informational Filing.

Filed Date: 9/15/22.

Accession Number: 20220915-5354.

Comment Date: 5 p.m. ET 10/6/22.

Docket Numbers: ER19-841-001.

Applicants: Energy Center Dover LLC.

Description: Notice of Change in Status of Energy Center Dover LLC.

Filed Date: 9/19/22.

Accession Number: 20220919-5246.

Comment Date: 5 p.m. ET 10/11/22.

Docket Numbers: ER22-2518-000.

Applicants: Clearwater Wind I, LLC.

Description: Supplement to July 28, 2022, Clearwater Wind I, LLC Application for Market-Based Rate Authorization to be effective 9/27/2022.

Filed Date: 9/19/22.

Accession Number: 20220919-5268.

Comment Date: 5 p.m. ET 9/29/22.

Docket Numbers: ER22-2884-000.

Applicants: Golden Spread Electric Cooperative, Inc.

Description: § 205(d) Rate Filing: WPC Amendments Depr. and Deriv Accounting to be effective 11/19/2022.

Filed Date: 9/20/22.

Accession Number: 20220920-5011.

Comment Date: 5 p.m. ET 10/11/22.

Docket Numbers: ER22-2886-000.

Applicants: PJM Interconnection, L.L.C.

Description: Compliance filing: Compliance on Certain Market Seller Offer Cap Provisions (EL22-22) to be effective 8/24/2022.

Filed Date: 9/20/22.

Accession Number: 20220920-5019.

Comment Date: 5 p.m. ET 10/11/22.

Docket Numbers: ER22-2887-000.

Applicants: Crossing Trails Wind Power Project LLC.

Description: Tariff Amendment: Notice of Cancellation and withdrawal of Rate Schedule Tariff to be effective 9/21/2022.

Filed Date: 9/20/22.

Accession Number: 20220920-5026.

Comment Date: 5 p.m. ET 10/11/22.

Docket Numbers: ER22-2888-000.

Applicants: Northern Indiana Public Service Company LLC.

Description: § 205(d) Rate Filing: Certificate of Concurrence to be effective 8/25/2022.

Filed Date: 9/20/22.

Accession Number: 20220920-5027.

Comment Date: 5 p.m. ET 10/11/22.

Docket Numbers: ER22-2889-000.

Applicants: PacifiCorp.

Description: § 205(d) Rate Filing: UAMPS Const Agmt Lehi Carter BTM Resource Modeling to be effective 11/20/2022.

Filed Date: 9/20/22.

Accession Number: 20220920-5044.

Comment Date: 5 p.m. ET 10/11/22.

Docket Numbers: ER22-2890-000.

Applicants: National Grid Generation LLC.

Description: § 205(d) Rate Filing: Annual Reset of Pension and OPEB Expenses to be effective 1/1/2022.

Filed Date: 9/20/22.

Accession Number: 20220920-5045.

Comment Date: 5 p.m. ET 10/11/22.

Docket Numbers: ER22-2891-000.

Applicants: Midcontinent Independent System Operator, Inc.

Description: § 205(d) Rate Filing: 2022-09-20_Ramp and STR Demand Curve Enhancements to be effective 11/29/2022.

Filed Date: 9/20/22.

Accession Number: 20220920-5055.

Comment Date: 5 p.m. ET 10/11/22.

Docket Numbers: ER22-2892-000.

Applicants: Black Hills Power, Inc.

Description: § 205(d) Rate Filing: BHP—BH Wyoming Update to Schedule B of GDEMA to be effective 11/21/2022.

Filed Date: 9/20/22.

Accession Number: 20220920-5062.

Comment Date: 5 p.m. ET 10/11/22.

Docket Numbers: ER22-2893-000.

Applicants: Black Hills Power, Inc.

Description: § 205(d) Rate Filing: BHP—BHCE Update to Schedule B of GDEMA to be effective 11/21/2022.

Filed Date: 9/20/22.

Accession Number: 20220920-5065.

Comment Date: 5 p.m. ET 10/11/22.

Docket Numbers: ER22-2894-000.

Applicants: Black Hills Power, Inc.

Description: § 205(d) Rate Filing: BHP—CLFP Update to Schedule B of GDEMA to be effective 11/21/2022.

Filed Date: 9/20/22.

Accession Number: 20220920-5066.

Comment Date: 5 p.m. ET 10/11/22.

Docket Numbers: ER22-2895-000.

Applicants: Black Hills Power, Inc.

Description: § 205(d) Rate Filing: BHP—Gillette Update to Schedule B of GDEMA to be effective 11/21/2022.

Filed Date: 9/20/22.

Accession Number: 20220920-5067.

Comment Date: 5 p.m. ET 10/11/22.

Docket Numbers: ER22-2896-000.

Applicants: Black Hills Power, Inc.

Description: § 205(d) Rate Filing: BHP—MDU Update to Schedule B of GDEMA to be effective 11/21/2022.

Filed Date: 9/20/22.

Accession Number: 20220920-5068.

Comment Date: 5 p.m. ET 10/11/22.

Take notice that the Commission received the following public utility holding company filings:

Docket Numbers: PH22-19-000.

Applicants: Ullico Inc.

Description: FERC-65A Notice of Change in Fact to Waiver Notification to Ullico Inc.

Filed Date: 9/20/22.

Accession Number: 20220920-5063.

Comment Date: 5 p.m. ET 10/11/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2022.
Debbie-Anne A. Reese,
Deputy Secretary.

[FR Doc. 2022-21008 Filed 9-27-22; 8:45 am]

BILLING CODE 6717-01-P